DEPARTMENT OF ENERGY

Federal Energy Regulatory Commission

[P-13058-000-WA]

Grays Harbor Ocean Energy Project; Notice of Licensing Outreach Meeting: Understanding the FERC Licensing Process

December 10, 2008.

a. Project: Grays Harbor Ocean Energy Project, Grays Harbor County, Washington.

b. Date and Time of Meeting: Tuesday, February 24, 2009, 9 a.m. to 11 a.m. (PST); and 7 p.m. to 9 p.m.

c. Place: Ocean Shores Convention Center, 120 W Chance A La Mer NW Ocean Shores, WA. 98569.

d. Purpose of the Meeting: Explain the licensing and permitting process for hydrokinetic technologies.

e. All local, State, and Federal agencies, and interested parties, are hereby invited to attend the meeting. Please RSVP your attendance by notifying David Turner via e-mail at david.turner@ferc.gov by close of business Tuesday, February 10, 2009.

Kimberly D. Bose,
Secretary.

[FR Doc. E8-29872 Filed 12-16-08; 8:45 am]

BILLING CODE 6717-01-P